BUREAU OF CONSUMER FINANCIAL PROTECTION

[Docket No: CFPB-2016-0015]

Agency Information Collection Activities: Comment Request

AGENCY: Bureau of Consumer Financial Protection.

ACTION: Notice and request for comment.

SUMMARY: In accordance with the Paperwork Reduction Act of 1995 (PRA), the Consumer Financial Protection Bureau (Bureau) is requesting to renew the Office of Management and Budget (OMB) approval for an existing information collection titled, “Generic Information Collection Plan for the Office of Intergovernmental Affairs Outreach Activities.”

DATES: Written comments are encouraged and must be received on or before May 27, 2016 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments received will become public records, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: CFPB_PRA@cfpb.gov. Please do not submit comments to this mailbox.

SUPPLEMENTARY INFORMATION:

Title of Collection: Generic Information Collection Plan for the Office of Intergovernmental Affairs Outreach Activities.

OMB Control Number: 3170-0041.

Type of Review: Extension without change of a currently approve collection.

Affected Public: State, local, or Tribal governments.

Estimated Number of Annual Respondents: 400.

Estimated Total Annual Burden Hours: 3,200.

Abstract: The Office of Intergovernmental Affairs (IGA) at the Bureau requests OMB's approval for an extension without change this generic information collection plan (GICP) in order to collect information from state, local, and tribal governments. These governments interact closely with consumers and are critical partners in promoting transparency and competition in the consumer financial products marketplace, eliminating unfair and unlawfully discriminatory practices, and enforcing consumer financial laws. The outreach activities performed by IGA will collect low-burden, non-generalizable information through this GICP on trends in consumer financial markets, enforcement actions, regulatory and supervisory issues, and consumer needs at the state, local, and tribal levels. Most of this information will be in the form of government representatives providing impressions and overviews of their activities. Information will be collected on an occasional and voluntary basis from state, local, and tribal governments and from their respective trade associations.

Request For Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: March 22, 2016.
Darrin A. King,
Paperwork Reduction Act Officer, Bureau of Consumer Financial Protection.

[FR Doc. 2016-06959 Filed 3-25-16; 8:45 am]

BILLING CODE 4810-AM-P